DEPARTMENT OF THE INTERIOR

National Park Service

[NPS-AKRO-WRST-20181; PPMRSNR1Y.Y00000]

Notice of Availability Mining Plan of Operations for Claims Within Wrangell-St. Elias National Park and Preserve, Alaska

AGENCY: National Park Service, Interior.

ACTION: Notice of availability.

SUMMARY: As required by Public Law 94-429, Section 2 of the of the Act of September 28, 1976, 16 U.S.C. 1901, and in accordance with provisions of Title 36 Code of Federal Regulations, Section 9.17, the National Park Service is hereby giving notice that Chisana Mining LLC., has filed a proposed plan to conduct mining operations on the Little El and Bonanza Claims, a group of unpatented placer claims in the Chisana Mining District near Chisana, Alaska. The claims are located within the boundaries of Wrangell -St. Elias National Park and Preserve.

DATES: This plan of operation is available for inspection during normal business hours at the following locations:

ADDRESSES:

Office of the Superintendent, Wrangell-St. Elias National Park and Preserve Mile 106.8 Richardson Highway, Copper Center, Alaska 99573

National Park Service Alaska Regional Office—Natural Resources Division, 240 West 5th Avenue, Anchorage, AK 99501

FOR FURTHER INFORMATION CONTACT: Eric Veach, Acting Superintendent, at (907) 822-5432, eric_veach@nps.gov, Michael Loso, Physical Scientist, at (907) 822-7240, michael_loso@npsgov.

SUPPLEMENTARY INFORMATION: To implement the Mining in the Parks Act, the NPS issued regulations at 36 CFR part 9, subpart A (36 CFR part 9A) in 1977. These regulations are applicable to all mineral activities in park units related to unpatented and patented mining claims, and make all mining claim operations in parks contingent on NPS approval of a plan of operations. Under the 36 CFR part 9A regulations, an NPS-approved plan of operations is required for all mining-related operations in parks associated with unpatented and patented mining claims. The plan of operations serves as the blueprint for the operation.

The claim owners, Chisana Mining LLC., have submitted a proposed plan of operations in accordance with the regulations at 36 CFR part 9A. Under 36 CFR Section 9.17(a), the NPS is required to publish a notice in the Federal Register advising the availability of the proposed plan for public review. This notice is being published to comply with the 36 CFR Section 9.17(a) requirement.

Dated: April 6, 2016.
Herbert C. Frost,
Regional Director, Alaska.

[FR Doc. 2016-08698 Filed 4-14-16; 8:45 am]

BILLING CODE 4312-EF-P